DEPARTMENT OF COMMERCE

Foreign-Trade Zones Board

[Docket 65-2005]

Foreign-Trade Zone 40 - Cleveland, Ohio; Application for Manufacturing Authority, DEMAG Plastics Group, (Plastic Production Machinery), Strongsville, Ohio

SUPPLEMENTARY INFORMATION: An application has been submitted to the Foreign-Trade Zones Board (the Board) by the Cleveland-Cuyahoga County Port Authority, grantee of FTZ 40, requesting manufacturing authority within the general-purpose zone for the manufacturing and warehousing facilities of the DEMAG Plastics Group (DEMAG), located in Strongsville, Ohio. The application was submitted pursuant to the provisions of the Foreign-Trade Zones Act, as amended (19 U.S.C. 81a-81u), and the regulations of the Board (15 CFR part 400). It was formally filed on December 20, 2005.

The DEMAG facility (350 employees) is located within Site 6B of FTZ 40, the Progress Drive Business Park, located at 11792 Alameda Drive, Strongsville, Cuyahoga County. The facility will be used for the manufacturing and warehousing of injection molding machines, single and twin screw extruders machinery, blow molding machines, injection molding clamp cylinders, extrusion feedscrew machinery, injection molding barrels and extrusion barrels machinery (HTS 8477.10, 8477.20, 8477.30, 8477.90, duty rate 3.1%%). Components and materials sourced from abroad (representing 20-45%% of all parts consumed in manufacturing) include: tubes; pipes; hoses; nonadhesive film, plates, sheets, foil and strip; plastic closures; handles and knobs of plastic; plastic gaskets; washers and seals; other articles of plastic; gaskets; washers; seals; printed matter; safety glass; flanges for tubes/pipes; iron or steel threaded sleeves, elbow, bends and other articles; iron/steel fittings; screws; bolts; nuts; washers; springs; cotters and cotter pins; nonthreaded articles of iron/steel; coppers, rivets and similar articles; aluminum articles; and operated non-adjustable spanners; base metal locks and keys; mountings and similar articles; base metal sign plates; hydraulic power engines and motors; fuel, lubricating or cooling pumps; rotary pumps; parts of pumps; heat exchanger units; filtering or purifying machinery and parts; pulley tackle and hoists; ADP thermal transfer printers; ADP magnetic disk drive storage units; injection molding machines; parts of machinery; pressure-reducing, oleohydraulic transmission and check valves; taps, cocks, valves and their parts; ball bearings; cylindrical roller bearings; gears; clutches; parts of gearing; DC generators; AC motors; electric rotary and static converters; electrical transformers; electromagnetic work holders; lithium primary cells; electric resistors; pre-recorded media; indicator panels; electric sound or visual signaling apparatus; fixed capacitors; electric variable resistors; printed circuits; fuses; electrical overload protectors and apparatus; relays; switches; coaxial connectors; plugs and sockets; electrical terminals and apparatus; boards, panels, consoles, desks; other parts; electrical filament lamps; light-emitting diodes; photosensitive semiconductor devices; other electrical machines; insulated conductors; liquid-filled thermometers; electrical instruments; revolution counters; instruments and apparatus; automatic thermostats; and, automatic regulating instruments (HTS 3917.23, 3920.99, 3923.50, 3926.90, 4016.93, 4901.99, 4911.10, 7007.19, 7007.29, 7307.91, 7307.92, 7307.99, 7318.15, 7318.16, 7318.19, 7318.21, 7318.22, 7318.24, 7318.29, 7320.90, 7326.90, 7415.29, 7616.99, 8204.11, 8301.40, 8301.70, 8302.41, 8302.49, 8310.00, 8412.29, 8413.30, 8413.60, 8413.91, 8419.50, 8421.29, 8421.39, 8421.99, 8425.11, 8471.60, 8471.70, 8477.10, 8477.90, , 8479.90, 8481.10, 8481.20, 8481.30, 8481.80, 8481.90, 8482.10, 8482.50, 8483.40, 8483.60, 8483.90, 8501.31, 8501.40, 8501.51, 8501.52, 8502.40, 8504.32, 8504.40, 8505.90, 8506.50, 8516.80, 8524.99, 8531.20, 8531.80, 8532.29, 8533.40, 8536.10, 8536.30, 8536.41, 8536.49, 8536.50, 8536.69, 8536.90, 8537.10, 8538.90, 8539.29, 8541.40, 8543.89, 8544.41, 8544.49, 8544.59, 9025.11, 9026.20, 9029.10, 9030.39, 9030.89, 9030.90, 9032.10, 9032.89, 9032.90 duty rate ranges from duty-free to 9 %%).

FTZ procedures would exempt DEMAG from Customs duty payments on the foreign components used in export production. The company anticipates that some 10-15 percent of the plant's shipments will be exported. On its domestic sales, DEMAG would be able to choose the duty rates during customs entry procedures that apply to finished plastic production machinery (3.1%%) for the foreign inputs noted above. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building - Suite 4100W, 1099 14th St. NW., Washington, DC 20005; or

2. Submissions Via the U.S. Postal Service: Foreign-Trade-Zones Board, U.S. Department of Commerce, FCB - Suite 4100W, 1401 Constitution Ave. NW., Washington, DC 20230.

The closing period for their receipt is February 28, 2006. Rebuttal comments in response to material submitted during the foregoing period may be submitted during the subsequent 15-day period (to March 15, 2006).

A copy of the application and accompanying exhibits will be available for public inspection at the Office of the Foreign-Trade Zones Board's Executive Secretary at the first address listed above, and at the U.S. Export Assistance Center, 600 Superior Ave. East, Suite 700, Cleveland, Ohio 44114.

Dated: December 20, 2005.
Dennis Puccinelli,
Executive Secretary.

[FR Doc. E5-8137 Filed 12-29-05; 8:45 am]

BILLING CODE 3510-DS-S